DEPARTMENT OF VETERANS AFFAIRS

38 CFR Part 51

RIN 2900-AR62

Payments Under State Home Care Agreements for Nursing Home Care

AGENCY: Department of Veterans Affairs.

ACTION: Proposed rule; correction.

SUMMARY: On December 21, 2022, the Department of Veterans Affairs (VA) published in the Federal Register a proposed rule to amend its State home per diem regulation to provide a new formula for calculating the prevailing rate VA would pay a State home that enters into a State home care agreement to provide nursing home care to eligible veterans. This correction revises the contact information for the proposed rule.

DATES: The correction is effective February 9, 2023. The due date for comments remains February 21, 2023.

ADDRESSES: Comments must be submitted through www.regulations.gov. Except as provided below, comments received before the close of the comment period will be available at www.regulations.gov for public viewing, inspection, or copying, including any personally identifiable or confidential business information that is included in a comment. We post the comments received before the close of the comment period on the following website as soon as possible after they have been received: https://www.regulations.gov. VA will not post on Regulations.gov public comments that make threats to individuals or institutions or suggest that the commenter will take actions to harm the individual. VA encourages individuals not to submit duplicative comments. We will post acceptable comments from multiple unique commenters even if the content is identical or nearly identical to other comments. Any public comment received after the comment period's closing date is considered late and will not be considered in the final rulemaking.

FOR FURTHER INFORMATION CONTACT: Colette Alvarez, Chief of Staff Home Per Diem Program, Geriatrics and Extended Care (12GEC), Veterans Health Administration, Department of Veterans Affairs, 810 Vermont Avenue NW, Washington, DC 20420, (202) 461-6750. (This is not a toll-free number.)

SUPPLEMENTARY INFORMATION: VA is correcting its proposed rule on Payments Under State Home Care Agreements for Nursing Home Care that published December 21, 2022, in the Federal Register (FR) at 87 FR 78038.

In FR Rule Doc. No. 2022-27436, beginning on page 78038 in the December 21, 2022 issue, VA makes the following correction:

On page 78038, under FOR FURTHER INFORMATION CONTACT, replace “Lisa Minor, National Director, Facilities Based Care, Geriatrics and Extended Care, 12GEC, Veterans Health Administration, Department of Veterans Affairs, 810 Vermont Avenue NW, Washington, DC 20420, (202) 632-8320. (This is not a toll-free number.)” with “Colette Alvarez, Chief of Staff Home Per Diem Program, Geriatrics and Extended Care (12GEC), Veterans Health Administration, Department of Veterans Affairs, 810 Vermont Avenue NW, Washington, DC 20420, (202) 461-6750. (This is not a toll-free number).”

Jeffrey M. Martin,
Assistant Director, Office of Regulation Policy & Management, Office of General Counsel, Department of Veterans Affairs.

[FR Doc. 2023-02708 Filed 2-8-23; 8:45 am]

BILLING CODE 8320-01-P